DEPARTMENT OF TRANSPORTATION

Office of the Secretary

Aviation Proceedings, Agreements Filed the Week Ending February 25, 2005

The following Agreements were filed with the Department of Transportation under the provisions of 49 U.S.C. Sections 412 and 414. Answers may be filed within 21 days after the filing of the application.

Docket Number: OST-2005-20456.

Date Filed: February 22, 2005.

Parties: Members of the International Air Transport Association.

Subject:

Memorandum PTC3 0827 dated 21 February 2005, Mail Vote 437—Resolution 010L—TC3 South Asian Subcontinent-South East Asia, South West Pacific, Japan/Korea—Special Passenger Amending Resolution from India to South East Asia, South West Pacific, Japan/Korea, r1-r21.

Intended effective date: 1 March 2005.

Docket Number: OST-2005-20464.

Date Filed: February 23, 2005.

Parties: Members of the International Air Transport Association.

Subject:

PTC23 EUR-J/K 0121, PTC23 ME-TC3 0228, PTC23 AFR-TC3 0262, PTC31 N&C/CIRC 0305 dated 25 February 2005.

Mail Vote 440—Resolution 010m—TC23/TC31 Special Passenger Amending Resolution from Japan to TC1, TC2, r1-r6.

Intended effective date: 1 April 2005.

Docket Number: OST-2005-20465.

Date Filed: February 23, 2005.

Parties: Members of the International Air Transport Association.

Subject:

PTC COMP 1217 dated 22 February 2005, Mail Vote 441—Resolution 010n—Special Amending Resolution—Turkey, r1-r3.

Intended effective date: 1 April 2005.

Renee V. Wright,
Acting Program Manager, Docket Operations, Alternate Federal Register Liaison.

[FR Doc. 05-4845 Filed 3-10-05; 8:45 am]

BILLING CODE 4910-62-P